DEPARTMENT OF THE INTERIOR

Fish and Wildlife Service

50 CFR Part 17

RIN 1018-AF45

Endangered and Threatened Wildlife and Plants; Reopening of Comment Period on the Proposed Rule To List the Southwestern Washington/Columbia River Coastal Cutthroat Trout in Washington and Oregon as Threatened

AGENCY: Fish and Wildlife Service, Interior.

ACTION: Proposed rule; reopening of comment period.

SUMMARY: We, the U.S. Fish and Wildlife Service (Service) are reopening the comment period on the proposed rule to list the Southwestern Washington/Columbia River coastal cutthroat trout Distinct Population Segment (DPS) in Washington and Oregon to collect new information that may be available concerning coastal cutthroat trout in the proposed area.

DATES: We will accept public comments until December 24, 2001.

ADDRESSES: Comments and materials concerning this notice should be sent to U.S. Fish and Wildlife Service, Oregon Fish and Wildlife Office, 2600 SE 98th Avenue, Suite 100, Portland, Oregon 97266, or email: coastal_cutthroat@fws.gov. Comments and materials received will be available for public inspection, by appointment, during normal business hours at the above address.

FOR FURTHER INFORMATION CONTACT: Kemper McMaster, State Supervisor at the above address, or telephone 503/231-6179; facsimile 503/231-6195

SUPPLEMENTARY INFORMATION

Background

On April 5, 1999, the National Marine Fisheries Service (NMFS) and the Service published a notice in the Federal Register (64 FR 16397) proposing to list the coastal cutthroat trout (Oncorhynchus clarki clarki) population in southwestern Washington and the Columbia River, excluding the Willamette River above Willamette Falls, as threatened pursuant to the Endangered Species Act of 1973, as amended (Act). On November 22, 1999, the Service assumed all Act regulatory jurisdiction over coastal cutthroat (65 FR 21376). The change in jurisdiction resulted from a joint agency determination that coastal cutthroat trout spend the majority of their life cycle in fresh water habitat. The Service published a notice in the Federal Register (65 FR 20123) on April 14, 2000, to extend the deadline from April 5, 2000, to October 5, 2000 for the final action on the proposed rule to list this population in Washington and Oregon, and to provide a 30-day comment period. The 6-month extension was necessary to obtain and review new information regarding the status of this population. On July 14, 2000, the Service published a notice in the Federal Register (65 FR 43730) to clarify the take prohibitions for coastal cutthroat trout and provided for a 30-day public comment period. This notice was necessary to answer questions we had received regarding the application of the take prohibitions of section 9 of the Act to the potential listing of the coastal cutthroat trout as threatened. In October, 2000, the Service suspended work on the proposed listing of the coastal cutthroat trout due to budgetary limitations. On August 29, 2001, the Service issued a press release announcing that, as part of a settlement agreement with conservation groups, we will re-commence work on the final listing decision for the Southwestern Washington/Columbia River coastal cutthroat trout DPS.

In association with work on the listing decision, the Service has also engaged the Oregon and Washington Departments of Fish and Wildlife in discussions of how recreational fishing activities in those states influence the status of the species, and whether application of take prohibitions with respect to these activities would be necessary or advisable should the species be listed. If the Service determines that such application would not be necessary or advisable for the conservation of coastal cutthroat trout, it will propose related special rules under section 4(d) of the Act in future publications of the Federal Register.

At this time, the Service is seeking any new information on the coastal cutthroat trout population in southwestern Washington and the Columbia River. We are interested in comments and information regarding: (1) Biological or other relevant data concerning any threat to coastal cutthroat trout; (2) The range, distribution, population size, and demographics of coastal cutthroat trout in southwestern Washington and the Columbia River, including information on resident coastal cutthroat trout above barriers; (3) Current or planned activities in the subject area and their possible impacts on the species; (4) Potential effects of forest and agricultural practices, hatchery production, and other human induced impacts; (5) The contribution of resident, above-, and below-barrier coastal cutthroat trout sub-populations to the anadromous life history component; and (6) Efforts being made to protect native, naturally reproducing populations of Southwestern Washington/Columbia River coastal cutthroat trout. The comment period closes December 24, 2001. Comments should be submitted to the Service office listed in the ADDRESSES section.

Author

The primary author of this notice is Robin Bown, U.S. Fish and Wildlife Service (see ADDRESSES section).

Authority

The authority for this action is the Endangered Species Act of 1973, as amended (16 U.S.C. 1531 et seq.).

Dated: November 8, 2001.
Acting Regional Director, Fish and Wildlife Service, Region 1, Portland, Oregon.

[FR Doc. 01-29218 Filed 11-21-01; 8:45 am]

BILLING CODE 4310-55-P